DEPARTMENT OF THE INTERIOR

Bureau of Indian Affairs

Final Determination Against Federal Acknowledgment of the Choctaw Nation of Florida

AGENCY: Bureau of Indian Affairs, Interior.

ACTION: Notice of Final Determination.

SUMMARY: Notice is hereby given that the Department of the Interior (Department) declines to acknowledge that the group known as the “Choctaw Nation of Florida” (CNF, formerly known as the Hunter Tsalagi-Choctaw Tribe), Petitioner #288, c/o Mr. Alfonso James, Jr., Post Office Box 6322, Marianna, Florida 32447, is an American Indian group that exists as an Indian tribe under Department procedures. This notice is based on a determination that the petitioner does not meet one of the seven mandatory criteria set forth in 25 CFR 83.7, specifically criterion 83.7(e), descent from a historical Indian tribe, and therefore, the Department may not acknowledge the petitioner under 25 CFR part 83. Based on the limited nature and extent of comment and consistent with previous practices, the Department did not produce a detailed report or other summary under the criteria pertaining to this FD. This notice is the Final Determination (FD).

DATES: This determination is final and will become effective 90 days from publication of this notice in the Federal Register on July 26, 2011, according to section 83.10(l)(4), unless a request for reconsideration is filed with the Interior Board of Indian Appeals according to section 83.11.

ADDRESSES: Requests for a copy of the Federal Register notice should be addressed to the Office of the Assistant Secretary—Indian Affairs, Attention: Office of Federal Acknowledgment, 1951 Constitution Avenue, NW., MS: 34B-SIB, Washington, DC 20240. The Federal Register notice is also available through http://www.bia.gov/WhoWeAre/AS-IA/OFA/RecentCases/index.htm.

FOR FURTHER INFORMATION CONTACT: R. Lee Fleming, Director, Office of Federal Acknowledgment, (202) 513-7650.

SUPPLEMENTARY INFORMATION: On July 2, 2010, the Department issued a proposed finding (PF) that the CNF petitioner was not an American Indian group that exists as an Indian tribe under Department procedures because the petitioner did not meet one of the seven mandatory criteria for Federal acknowledgment as an Indian tribe, criterion 83.7(e). This criterion requires that the petitioner's membership consist of individuals who descend from a historical Indian tribe or from historical Indian tribes that combined and functioned as a single autonomous political entity. The review of the evidence for the proposed finding clearly established that the petitioner did not meet criterion 83.7(e) and the Department issued a proposed finding denying acknowledgment under that one criterion (83.10(e)(1)). The Department published a notice of the PF in the Federal Register on July 12, 2010 (75 FR 39703). Publishing notice of the PF initiated a 180-day comment period during which time the petitioner and interested and informed parties could submit arguments and evidence to support or rebut the PF. In response to the PF, the petitioner or third parties must provide evidence for the FD that the petitioner meets the criterion in question under the standard set forth at 25 CFR 83.6(d). This initial comment period ended on January 10, 2011.

By letter dated January 3, 2011, the petitioner's attorney submitted on the petitioner's behalf copies of 44 documents consisting of 74 pages described as “additional information” for the Department “to consider in making its final decision.” The Department received these comments on January 6, 2011, before the close of the comment period on January 10, 2011. The petitioning group did not provide any narrative or thorough explanation regarding the relevance of these documents to criterion 83.7(e). The petitioner did not submit any changes to its most current membership list of 77 individuals. The Department analyzed the submitted documents as the group's comments on the PF. The Department did not receive comments from any party other than the petitioner. After the close of the applicable comment periods, the Department received an additional comment from the petitioner's attorney. In accord with the regulations, the Department did not consider this unsolicited comment in the preparation of the FD (83.10(l)(1)).

The petitioner claims to be a group of Choctaw Indians that migrated from North Carolina to Georgia and then Florida following the Choctaw Indian removal of the 1830s. None of the evidence in the record for the PF demonstrated the validity of this claim. None of the evidence in the record for the PF demonstrated the petitioner's members or claimed ancestors descended from a Choctaw Indian tribe or any other Indian tribe. The petitioner did not submit any materials in its submission for the FD that established, by the standard set forth at 83.6(d), descent from a historical Indian tribe as required by criterion 83.7(e).

Of the 44 documents the petitioner submitted for the FD, 37 were previously submitted and analyzed for the PF. Only seven of the documents were new submissions, and six of them did not provide evidence for documenting descent from a historical tribe as required by criterion 83.7(e). Of these six documents, the first described statutes of 1852, 1898, and 1902; the second was a one-sentence description of “Fort Chippola”; the third briefly described the courthouse history of Walton County, Florida; the fourth described the Choctawhatchee River; the fifth was a two-page list of Choctaw villages transcribed for the Internet from the Handbook of American Indians North of Mexico (1907); and the sixth described United States Code, Title 18, Section 1164, “Destroying boundary and warning signs.” None of these documents provides descent evidence linking members of the petitioner to a historical Indian tribe.

Only one document received from the petitioner in the comment period had any bearing on criterion 83.7(e): A Dawes Commission Roll index entry for a Lucy Pope. The Department finds this evidence insufficient to document the required descent for the petitioner under criterion 83.7(e) for the following reasons.

For the PF, the Department determined that most of the current group's members descend from a Burton Hunter (b.ca. 1836-1842) and his wife Lucy (b.ca. 1844-1850) whose maiden name was not documented. The petitioner claimed Lucy's last name was “Pope” and submitted for the PF two Federal census entries in an attempt to support its theory: An 1860 Federal census entry for an “L. Pope” of South Carolina and an 1870 Federal census entry for a “Lucy Pope” of Florida. Evaluation presented in the PF demonstrates that the census entries pertained to two women, neither of whom could have been the wife of Burton Hunter. Further, the PF found no evidence in the record that Burton Hunter's wife Lucy was a Pope or that either he or Lucy descended from a historical Choctaw Indian tribe or any other Indian tribe.

For the FD, the petitioner submitted a two-page index from an Internet Web site that listed a Lucy Pope among some Choctaw Indians whose names appeared on the 1898-1914 Dawes Commission Roll. The petitioner placed an asterisk next to the entry for Lucy Pope, Roll No. 8626. The Department believes the petitioner is using this annotation to advance a claim that the Dawes Commission, a Federal organization that Congress authorized in 1893, had enrolled one of its claimed ancestors as a member of the Choctaw Nation in Indian Territory (now Oklahoma).

The Department examined the evidence behind the Dawes Commission Roll index reference and found that the enrolled Choctaw Lucy Pope is different from Burton Hunter's documented wife Lucy and different from both of the Pope women the petitioner claimed as Burton Hunter's wife. As explained in the PF, Burton Hunter's wife Lucy was born around 1842 in Florida and died in 1907 in Florida. The “L. Pope” the petitioner claimed as Burton Hunter's wife, citing the 1860 Federal census of South Carolina, was born between 1831 and 1833 in South Carolina, and the other “Lucy Pope” claimed as Burton Hunter's wife, citing the 1870 Federal census of Florida, was born about 1832 in Florida. In contrast, the Dawes Commission enrollment record for a Lucy Pope, Roll No. 8626 on Census Card #2933, submitted by the petitioner for the FD, shows that this Lucy Pope was born around 1878, her maiden name was Sam, and she was married to a Pope. She appeared on the 1910 Federal Census as living with her family in Pittsburg County, Oklahoma. Therefore, this Lucy (Sam) Pope (b. 1878-d.aft. 1910) is not the same person as any of the three women analyzed in the PF as the wife of Burton Hunter: L. Pope (b. 1831-1833 SC), Lucy Pope (b. 1832 FL) or Lucy [—?—] Hunter (b. 1842 FL) (documented wife of Burton Hunter).

In the PF, the Department discussed in detail Lucy [—?—] Hunter as well as the L. Pope and Lucy Pope the petitioner claimed as the wife of Burton Hunter. None of the evidence for the PF demonstrated any descent from a historical Choctaw Indian tribe or other historical Indian tribe for Lucy Hunter or the other Pope women the petitioner claimed. The evidence behind the Dawes Commission Roll index reference pertains to a Lucy Pope who is not the petitioner's claimed ancestor although her married name is the same as that of two individuals previously analyzed in the PF. Therefore, the Dawes Commission Roll evidence does not demonstrate Indian ancestry for Burton Hunter's documented wife Lucy or either of the Pope women whom the petitioner claimed as the wife of its ancestor Burton Hunter.

None of the material submitted for the FD changes the conclusions of the PF that the petitioner does not meet the requirements of criterion 83.7(e), which requires that the petitioner's membership consist of individuals who descend from a historical Indian tribe or from historical Indian tribes that combined and functioned as a single autonomous political entity.

To summarize, the petitioner claims to have descended as a group from a historical tribe of Choctaw Indians. There is no primary or reliable secondary evidence submitted by the petitioner or located by the Department showing that any of the named ancestors or members of the group descended from a historical Choctaw Indian tribe or any other Indian tribe. None of the documentation on the petitioner's members and their claimed individual ancestors, submitted by the petitioner or found by the Department's researchers, supports the petitioner's claim of descent from a historical Choctaw Indian tribe or any other Indian tribe. No document in the record identified the petitioner's members and claimed ancestors as part of the historical Choctaw or other Indian tribe. In fact, the evidence shows the petitioner's members and claimed ancestors were consistently identified as non-Indians living in non-Indian communities. The extensive evidence in the record does not demonstrate descent from any historical Indian tribe.

The Department declines to acknowledge the CNF petitioner as an Indian tribe because the evidence in the record does not demonstrate, by the standard set forth at 25 CFR 83.6(d), that the membership descends from a historical Indian tribe as required by mandatory criterion 83.7(e).

After the publication of notice of the FD, the petitioner or any interested party may file a request for reconsideration with the Interior Board of Indian Appeals (IBIA) under the procedures set forth in section 83.11 of the regulations. The IBIA must receive this request no later than 90 days after the publication of the FD in the Federal Register. The FD will become final and effective as provided in the regulations 90 days from the Federal Register publication, unless a request for reconsideration is received within that time.

Dated: April 21, 2011.
Larry Echo Hawk,
Assistant Secretary—Indian Affairs.

[FR Doc. 2011-10117 Filed 4-26-11; 8:45 am]

BILLING CODE 4310-G1-P